FEDERAL COMMUNICATIONS COMMISSION

[CC Docket No. 97-90; CCB/CPD File No. 97-12; DA 04-2055]

Requests of US West Communications, Inc. for Interconnection Cost Adjustment Mechanisms; Petition for Declaratory Ruling and Contingent Petition for Preemption

AGENCY: Federal Communications Commission.

ACTION: Notice; termination of proceeding.

SUMMARY: This document is a notification of final termination of the Requests of US West Communications, Inc. (US West) for Interconnection Cost Adjustment Mechanisms (ICAM); Petition for Declaratory Ruling and Contingent Petition for Preemption. US West (now Qwest) never pursued recovery of interconnection costs through ICAM surcharges, and the petition was dismissed without prejudice unless any interested party provided notice that a genuine dispute remained to be resolved. No such notices were received, and parties are notified that this proceeding has been terminated.

DATES: This proceeding has been terminated as of September 29, 2004.

FOR FURTHER INFORMATION CONTACT: Julie Saulnier, Wireline Competition Bureau, Pricing Policy Division, (202) 418-1530.

SUPPLEMENTARY INFORMATION: This is a summary of the Public Notice in CC Docket No. 97-90, CCB/CPD File No. 97-12, released October 20, 2004. The complete text of the Public Notice is available for public inspection Monday through Thursday from 8 a.m. to 4:30 p.m. and Friday from 8 a.m. to 11:30 a.m. in the Commission's Consumer and Governmental Affairs Bureau, Reference Information Center, Room CY-A257, 445 Twelfth Street, SW., Washington, DC 20554. The complete text is available also on the Commission’ Internet site at http://www.fcc.gov. On July 9, 2004, the Wireline Competition Bureau's Pricing Policy Division issued an order stating the US West's Petition for Declaratory Ruling and Contingent Petition for Preemption would be dismissed without prejudice effective 30 days after publication of the order in the Federal Register, unless the Bureau received notice from any interested party that there was still a genuine dispute that remained to be resolved. A summary of the order was published in the Federal Register on August 30, 2004. See 69 FR 52904, August 30, 2004. The Bureau received no notices within 30 days of that date. Therefore, the proceeding was terminated as of September 29, 2004.

Federal Communications Commission.
Jeffrey J. Carlisle,
Chief, Wireline Competition Bureau.

[FR Doc. 04-24435 Filed 11-1-04; 8:45 am]

BILLING CODE 6712-01-P